DEPARTMENT OF COMMERCE

International Trade Administration

[C-533-913]

Certain Non-Refillable Steel Cylinders From India: Final Affirmative Countervailing Duty Determination

AGENCY: Enforcement and Compliance, International Trade Administration, Department of Commerce.

SUMMARY: The U.S. Department of Commerce (Commerce) determines that countervailable subsidies are being provided to producers and exporters of certain non-refillable steel cylinders (steel cylinders) from India. The period of investigation (POI) is April 1, 2022, through March 31, 2023.

DATES: Applicable April 22, 2024.

FOR FURTHER INFORMATION CONTACT: Shane Subler or Rachel Accorsi, AD/CVD Operations, Office VIII, Enforcement and Compliance, International Trade Administration, U.S. Department of Commerce, 1401 Constitution Avenue NW, Washington, DC 20230; telephone: (202) 482-6241 or (202) 482-3149, respectively.

SUPPLEMENTARY INFORMATION:

Background

On September 29, 2023, Commerce published the Preliminary Determination in the Federal Register.¹ Subsequently, on February 8, 2024, Commerce released its Post-Preliminary Analysis.² For a complete description of the events that followed the Preliminary Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Certain Non-Refillable Steel Cylinders from India: Preliminary Affirmative Countervailing Duty Determination and Alignment of Final Determination With Final Antidumping Duty Determination, 88 FR 67231 (September 29, 2023) (Preliminary Determination), and accompanying Preliminary Decision Memorandum.

² See Memorandum, “Decision Memorandum for the Post-Preliminary Analysis in the Countervailing Duty Investigation of Certain Non-Refillable Steel Cylinders from India,” dated February 8, 2024 (Post-Preliminary Analysis).

³ See Memorandum, “Issues and Decision Memorandum for the Final Affirmative Determination of the Countervailing Duty Investigation of Certain Non-Refillable Steel Cylinders from India,” dated concurrently with, and hereby adopted by, this notice (Issues and Decision Memorandum).

Scope of the Investigation

The products covered by this investigation are steel cylinders. For a complete description of the scope of this investigation, see Appendix I.

Scope Comments

No interested party commented on the scope of the investigation as it appeared in the Preliminary Determination. Therefore, no changes were made to the scope of the investigation.

Verification

Commerce conducted verification of the information relied upon in making its final determination in this investigation, in accordance with section 782(i) of the Tariff Act of 1930, as amended (the Act). Specifically, we conducted on-site verifications of the Government of India, Inox India Ltd. (Inox), and Bhiwadi Cylinders Private Limited (Bhiwadi) in February 2024 using standard verification procedures, including an examination of relevant sales and accounting records, and original source documents provided by the respondents.⁴

⁴ See Memoranda, “Verification of the Questionnaire Responses of INOX India Ltd.,” dated March 1, 2024; “Verification of the Questionnaire Responses of the Government of India,” dated March 1, 2024; and “Verification of the Questionnaire Responses of Bhiwadi Cylinders Private Limited,” dated March 7, 2024.

Analysis of Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁵ For a full description of the methodology underlying our final determination, see the Issues and Decision Memorandum.

⁵ See sections 771(5)(B) and (D) of the Act regarding financial contribution; section 771(5)(E) of the Act regarding benefit; and section 771(5A) of the Act regarding specificity.

In making this final determination, Commerce relied, in part, on facts available and, because it finds that the Government of India did not act to the best of its ability to respond to Commerce's requests for information, Commerce has drawn an adverse inference where appropriate in selecting from among the facts otherwise available. For a full discussion of our application of adverse facts available, see the “Use of Facts Otherwise Available and Application of Adverse Inferences” section in the Issues and Decision Memorandum.

Changes Since the Preliminary Determination and Post-Preliminary Analysis

Based on our findings at verification and our review and analysis of the comments received from parties, for this final determination, we made certain changes to the countervailable subsidy rate calculations for Inox, Bhiwadi, and for all other producers/exporters. For a discussion of these changes, see the Issues and Decision Memorandum.

All-Others Rate

Pursuant to section 705(c)(5)(A)(i) of the Act, Commerce will determine an all-others rate equal to the weighted-average countervailable subsidy rates established for exporters and/or producers individually investigated, excluding any zero and de minimis countervailable subsidy rates, and any rates based entirely under section 776 of the Act. We continue to calculate individual estimated countervailable subsidy rates for Bhiwadi and Inox that are not zero, de minimis, or based entirely on facts otherwise available. We, therefore, continue to calculate the all-others rate using a weighted average of the individual estimated subsidy rates calculated for Bhiwadi and Inox, the individually examined exporters/producers in this investigation, pursuant to section 705(c)(5)(A)(i) of the Act.

Final Determination

Commerce determines that the following estimated countervailable subsidy rates exist for the period April 1, 2022, through March 31, 2023:

⁶ Commerce finds the following company to be cross-owned with Bhiwadi Cylinders Private Limited: Sapphire (India) Private Limited.

Company | Subsidy rate ad valorem (percent)
Bhiwadi Cylinders Private Limited ⁶ | 2.48
Inox India Ltd | 2.26
All Others | 2.38

Disclosure

Commerce intends to disclose its calculations and analysis performed to interested parties in this final determination within five days of any public announcement, or if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after September 29, 2023, the date of publication of the Preliminary Determination in the Federal Register. In accordance with section 703(d) of the Act, on January 29, 2024, we instructed CBP to discontinue the suspension of liquidation of all entries of subject merchandise entered or withdrawn from warehouse on or after January 27, 2024, but to continue the suspension of liquidation of all entries of subject merchandise on or after September 29, 2023, to on or before January 26, 2024.

If the U.S. International Trade Commission (ITC) issues a final affirmative injury determination, we will issue a countervailing duty order, reinstate the suspension of liquidation under section 706(a) of the Act, and require a cash deposit of estimated countervailing duties for such entries of subject merchandise in the amounts indicated above, in accordance with section 706(a) of the Act. If the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of steel cylinders from India. As Commerce's final determination is affirmative, in accordance with section 705(b) of the Act, the ITC will determine, within 45 days, whether the domestic industry in the United States is materially injured, or threatened with material injury, by reason of imports of steel cylinders from India. In addition, we are making available to the ITC all non-privileged and non-proprietary information related to this investigation. We will allow the ITC access to all privileged and business proprietary information in our files, provided the ITC confirms that it will not disclose such information, either publicly or under an administrative protective order (APO), without the written consent of the Assistant Secretary for Enforcement and Compliance.

Administrative Protective Order

In the event that the ITC issues a final negative injury determination, this notice will serve as the only reminder to parties subject to an APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: April 15, 2024.
Ryan Majerus,
Deputy Assistant Secretary for Policy and Negotiations, performing the non-exclusive functions and duties of the Assistant Secretary for Enforcement and Compliance.

Appendix I

Scope of the Investigation

The merchandise covered by this investigation is certain seamed (welded or brazed), non-refillable steel cylinders meeting the requirements of, or produced to meet the requirements of, U.S. Department of Transportation specification 39, TransportCanada specification 39M, or United Nations pressure receptacle standard ISO 11118 and otherwise meeting the description provided below (non-refillable steel cylinders). The subject non-refillable steel cylinders are portable and range from 100-cubic inch (1.6 liter) water capacity to 1,526-cubic inch (25 liter) water capacity. Subject non-refillable steel cylinders may be imported with or without a valve and/or pressure release device and are unfilled at the time of importation. Non-refillable steel cylinders filled with pressurized air otherwise meeting the physical description above are covered by this investigation.

Specifically excluded are seamless non-refillable steel cylinders.

The merchandise subject to this investigation is properly classified under statistical reporting numbers 7311.00.0060 and 7311.00.0090 of the Harmonized Tariff Schedule of the United States (HTSUS). The merchandise may also enter under HTSUS statistical reporting numbers 7310.29.0030 and 7310.29.0065. Although the HTSUS statistical reporting numbers are provided for convenience and customs purposes, the written description of the merchandise is dispositive.

Appendix II

List of Topics Discussed in the Issues and Decision Memorandum

I. Summary

II. Background

III. Scope of the Investigation

IV. Subsidies Valuation Information

V. Use of Facts Otherwise Available and Application of Adverse Inferences

VI. Analysis of Programs

VII. Discussion of the Issues

Comment 1: Whether Commerce Incorrectly Found the Duty Drawback (DDB) Program to Be Countervailable

Comment 2: Whether Commerce Incorrectly Determined that the Mandatory Respondents Benefited from the Merchandise Export from India Scheme (MEIS) and Target Plus Scheme (TPS) After the Programs Were Discontinued

Comment 3a: Whether Commerce Should Revise the Calculation of the Export Promotion of Capital Goods Scheme (EPCGS) Benefit for Inox

Comment 3b: Whether Commerce Incorrectly Found the EPCGS to Be Countervailable

Comment 4a: Whether Commerce Incorrectly Found the Remission of Duties and Taxes on Export Products (RODTEP) Scheme to Be Countervailable

Comment 4b: Whether Commerce Should Amend Its Benefit Calculation Methodology for the RODTEP Program

Comment 5a: Whether Commerce Erred by Applying Adverse Facts Available (AFA) in Its Specificity Determinations for the Provision of Cold-Rolled (CR) Steel by the Steel Authority of India Limited (SAIL) for Less Than Adequate Remuneration (LTAR) and the Provision of Hot-Rolled (HR) Steel by SAIL for LTAR Programs

Comment 5b: Whether SAIL Is a Government “Authority”

Comment 5c: Whether Commerce Should Find the Indian CR Steel and HR Steel Markets to Be Distorted by the Government of India's (GOI) Involvement

Comment 5d: Whether Commerce Properly Countervailed Bhiwadi's HR Coil Purchases

Comment 6: Whether Commerce Should Correct Its Status Holders Incentive Scheme (SHIS) Benefit Calculation Methodology

Comment 7: Whether Inox Received a Stamp Duty Exemption Within the Kandla Special Economic Zone (SEZ) to Produce Subject Merchandise

Comment 8: Whether the Mukhyamantri Apprentice Training Scheme (MATS) Confers a Countervailable Subsidy

VIII. Recommendation

[FR Doc. 2024-08451 Filed 4-19-24; 8:45 am]

BILLING CODE 3510-DS-P